FEDERAL MARITIME COMMISSION

Notice of Agreement Filed

The Commission hereby gives notice of the filing of the following agreement under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 011284-059.

Title: Ocean Carrier Equipment Management Association Agreement.

Parties: APL Co. Pte. Ltd.; American President Lines, Ltd.; A.P. Moller-Maersk A/S; CMA CGM, S.A.; Compania Sudamericana de Vapores, S.A.; CP Ships (USA) LLC; Crowley Maritime Corporation; Evergreen Marine Corp. (Taiwan) Ltd.; Hanjin Shipping Co., Ltd.; Hamburg-Süd; Hapag-Lloyd Container Linie GmbH; Hyundai Merchant Marine Co. Ltd.; Mitsui O.S.K. Lines Ltd.; Contship Containerlines; Australia-New Zealand Direct Line; Orient Overseas Container Line Limited; Nippon Yusen Kaisha Line; Yangming Marine Transport Corp.; COSCO Containerlines Company Limited; and Kawasaki Kisen Kaisha, Ltd.

Filing Party: Jeffrey F. Lawrence, Esq. and Donald J. Kassilke, Esq.; Sher & Blackwell LLP; 1850 M Street, NW., Suite 900; Washington, DC 20036.

Synopsis: The amendment updates Maersk's trade name, deletes P&O Nedlloyd Limited and P&O Nedlloyd B.V. as parties to the agreement, and adds Crowley Maritime Corporation as a party.

By Order of the Federal Maritime Commission.
Dated: March 31, 2006.
Bryant L. VanBrakle,
Secretary.

[FR Doc. E6-4928 Filed 4-4-06; 8:45 am]

BILLING CODE 6730-01-P